NATIONAL SCIENCE FOUNDATION

Advisory Committee for Mathematical and Physical Sciences; Notice of Meeting

In accordance with Federal Advisory Committee Act (Pub. L. 92-463, as amended), the National Science Foundation announces the following meeting:

Name: Advisory Committee for Mathematical and Physical Sciences (#66).

Date/Time: April 22, 2004, 8 AM-6 PM; April 23, 2004, 8 AM-3:30 PM.

Place: National Science Foundation, 4201 Wilson Boulevard, Arlington, VA 22230, Room 375.

Type of Meeting: Open.

Contact Person: Dr. Morris L. Aizenman, Senior Science Associate, Directorate for Mathematical and Physical Sciences, Room 1005 National Science Foundation, 4201 Wilson Boulevard, Arlington, VA 22230. (703) 292-8807.

Purpose of Meeting: To provide advice and recommendations concerning NSF science and education activities within the Directorate for Mathematical and Physical Sciences.

Agenda: Briefing on current status of Directorate, Update and Discussion of MPS Long-term Planning Activities, Meeting of MPSAC with Divisions within MPS Directorate, Review by MPSAC of Committee of Visitors Reports for the Division of Chemistry and the Division of Mathematical Sciences.

Summary of Minutes: May be obtained from the contact person listed above.

Dated: March 23, 2004.
Susanne E. Bolton,
Committee Management Officer.

[FR Doc. 04-6811 Filed 3-25-04; 8:45 am]

BILLING CODE 7555-01-M